DEPARTMENT OF COMMERCE

National Institute of Standards and Technology

Request for Participation on Technical Language Processing Community of Interest

AGENCY: National Institute of Standards and Technology, Department of Commerce.

ACTION: Notice.

SUMMARY: The Systems Integration Division of the National Institute of Standards and Technology (NIST) is forming a community of interest (COI) to develop best practices guidelines on how to tailor Natural Language Processing (NLP) tools to engineering text-based data: Technical language processing (TLP). Developed guidelines will be technology and vendor agnostic and will address the current needs of industry to have independent guidelines based on user requirements and measurement science research. The TLP COI wants to advance research and development initiatives to advance TLP smart manufacturing and other industrial applications. The TLP COI is seeking members from government, industry, and academia to create a better synergy between end users, the research community, and solution providers to reduce complexity, cost, and delay of adoption of TLP solutions.

DATES: Intention to participate must be received by May 17, 2021.

ADDRESSES: Intention to participate may be submitted by sending an email to Michael Brundage, Project Leader, Engineering Laboratory, NIST. The email address to participate is tlp-coi@nist.gov. Please provide your full name, email address, phone number, company, and position in the company in your intent to participate email.

The COI will meet quarterly via web conference and in-person meetings. Further instructions will be provided on https://nist.gov/el/tlp-coi.

FOR FURTHER INFORMATION CONTACT: For further information contact Michael Brundage, Project Leader, Engineering Laboratory, NIST by email at tlp-coi@nist.gov or contact Jo-Anne Fung-A-Fat by phone at (301) 975-3508.

Please direct media inquiries to NIST's Public Affairs Office at 301-975-2762.

SUPPLEMENTARY INFORMATION: The TLP COI will bring together interested participants to discuss ongoing and future directions for text analysis of technical data. This group will meet quarterly with a mixture of in-person and virtual meetings. Meetings will be a mixture of working meetings and information sessions. Information on meeting times and formats will be posted on https://www.nist.gov/el/tlp-coi. The output from this group will influence guidelines and roadmap documents to improve adoption of TLP solutions.

The Systems Integration Division of the National Institute of Standards and Technology (NIST) is forming a community of interest (COI) to develop best practices guidelines on how to tailor Natural Language Processing (NLP) tools to engineering text-based data: Technical language processing (TLP). Developed guidelines will be technology and vendor agnostic and will address the current needs of industry to have independent guidelines based on user requirements and measurement science research.

The TLP COI wants to advance research and development initiatives to advance TLP smart manufacturing and other industrial applications. The following list defines the scope of the TLP COI's focus:

• Education: Highlighting results to the community from research and scientific discoveries of natural language processing and technical language processing and added value to industrial applications.

• Use case management: Identifying use cases where NLP can enhance the productivity and reliability of services.

• Validation: Developing guidelines and metrics for organizations to evaluate use cases and software solutions.

• Dissemination: Developing a public knowledge repository to share results (e.g., source code, tutorial videos, peer-reviewed articles).

• Communication: Providing a platform for different stakeholders to find each other, exchange ideas/needs/feedback, ensure goals are met, and foster innovation.

The TLP COI is seeking members from government, industry, and academia to create a better synergy between end users, research community, and solution providers to reduce complexity, cost, and delay of adoption of TLP solutions. Interested parties should submit their intention to participate in accordance with the DATES and ADDRESSES of this notice.

More information on technical language processing research may be found on the NIST home page for Knowledge Extraction and Application for Manufacturing Operations at https://www.nist.gov/programs-projects/knowledge-extraction-and-application-manufacturing-operations.

(Authority: 15 U.S.C. 272(b) and (c))

Kevin Kimball,
Chief of Staff.

[FR Doc. 2020-25292 Filed 11-16-20; 8:45 am]

BILLING CODE 3510-13-P